DEPARTMENT OF ENERGY

Federal Energy Regulatory Commission

[Docket No. EL00-80-000]

Indeck Maine Energy, LLC v. ISO New England, Inc.; Notice of Complaint

June 6, 2000.

Take notice that on June 2, 2000, Indeck Maine Energy, LLC submitted for filing, pursuant to Section 206 of the Federal Power Act, a Complaint Requesting Fast Track Processing And Request for Immediate Action against the ISO New England, Inc.

Any person desiring to be heard or to protests this filing should file a motion to intervene or protest with the Federal Energy Regulatory Commission, 888 First Street, NE, Washington, DC 20426, in accordance with Rules 211 and 214 of the Commission's Rules of Practice and Procedure (18 CFR 385.211 and 385.214). All such motions or protests must be filed on or before June 12, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 12, 2000.

Linwood A. Watson, Jr.,
Acting Secretary.

[FR Doc. 00-14711 Filed 6-9-00; 8:45 am]

BILLING CODE 6717-01-M